DEPARTMENT OF ENERGY

Federal Energy Regulatory Commission

[Project No. 2161-006]

Rhinelander Paper Company, Wisconsin; Errata Notice

August 27, 2003.

On August 20, 2003, the Commission issued an “Order Issuing New License”, 104 FERC ¶ 62,134 (2003), to operate and maintain the Rhinelander Hydroelectric Project located on River, County, Wisconsin. This notice corrects the license ordering paragraphs.

Ordering Paragraph (B)(1) is changed to read:

(1) All lands, to the extent of the licensee's interests in those lands, enclosed by the project boundary approved in the previous license order for this project,²⁸ remain in affect.

²⁸ 14 FERC ¶ 62,064 (1981).

Ordering Paragraph (E), Article 202 is changed to read:

Article 202. Within 45 days of the date of issuance of the license, the licensee shall file three sets of aperture cards of the approved exhibit drawings. The sets must be reproduced on silver or gelatin 35mm microfilm.

Prior to microfilming, the FERC Drawing Number (2161-1001 through 2161-1007) shall be shown in the margin below the title block of the approved drawing. After mounting, the FERC Drawing Number shall be typed on the upper right corner of each aperture card. Additionally, the Project Number, FERC Exhibit (e.g., F-1, G-1, etc.), Drawing Title, and date of this license shall be typed on the upper left corner of each aperture card.

Two of the sets shall be filed with the Secretary of the Commission, ATTN: OEP/DHAC. The third set shall be filed with the Commission's Chicago Regional Office.

Linda Mitry,
Acting Secretary.

[FR Doc. 03-22721 Filed 9-5-03; 8:45 am]

BILLING CODE 6717-01-P